DEPARTMENT OF TRANSPORTATION

Federal Aviation Administration

14 CFR Part 73

[Docket No. FAA-2006-23531; Airspace Docket No. 04-ASO-14]

RIN 2120-AA66

Modification of Restricted Areas R-3002A, B, C, D, E and F; and Establishment of Restricted Area R-3002G; Fort Benning, GA

AGENCY: Federal Aviation Administration (FAA), DOT.

ACTION: Final rule.

SUMMARY: This action modifies the boundaries of the Restricted Area R-3002 range complex at Fort Benning, GA. The U.S. Army requested these modifications as a result of a land exchange agreement between Fort Benning and the City of Columbus, GA. In addition, a portion of the southwest section of R-3002, within the existing restricted airspace, is redesignated as a separate restricted area, R-3002G, to better accommodate instrument approach procedures at Lawson Army Air Field (AAF). The internal boundaries between restricted area subdivisions are also realigned slightly to permit more efficient scheduling and utilization of the range complex. Finally, the names of the controlling agency and using agency for the restricted areas are changed to reflect their current titles.

DATES: Effective Date: 0901 UTC, August 3, 2006.

FOR FURTHER INFORMATION CONTACT: Paul Gallant, Airspace and Rules, Office of System Operations Airspace and AIM, Federal Aviation Administration, 800 Independence Avenue, SW., Washington, DC 20591; telephone (202) 267-8783.

SUPPLEMENTARY INFORMATION:

History

On January 30, 2006, the FAA published in the Federal Register a notice of proposed rulemaking to modify R-3002A, B, C, D, E, and F; and establish R-3002G at Fort Benning, Georgia (71 FR 4836). Interested parties were invited to participate in this rulemaking effort by submitting comments on this proposal to the FAA. No comments were received in response to the notice.

Restricted areas in 14 CFR part 73 are published in subpart B of FAA Order 7400.8M, dated January 6, 2006 and effective February 16, 2006. The restricted areas listed in this document will be published subsequently in the Order.

The Rule

This action amends Title 14 Code of Federal Regulations 14 CFR part 73 by adjusting the boundaries of Restricted Areas R-3002A, B, C, D, E, and F, Fort Benning, GA; and redesignates a section of existing restricted airspace as a separate area titled R-3002G. The boundary amendments revoke existing restricted airspace over land ceded to the City of Columbus, GA, in the northwest section of the range, and establish new restricted airspace to the south of existing Restricted Areas R-3002A, B, and C, over land ceded by the City to Fort Benning. This action also realigns the internal dividing lines between restricted areas to permit better scheduling and utilization of the complex. The FAA is also changing the name of the controlling agency from “FAA, ATC Tower, Columbus, GA,” to “FAA, Atlanta TRACON,” and the name of the using agency from “Commanding Officer, Fort Benning, GA,” to “U.S. Army, Commanding General, Infantry Center and Fort Benning, GA.” These name changes reflect the current titles of the responsible agencies.

These changes will facilitate the release of restricted airspace that is not needed for military operations, and will enhance the efficient use of the navigable airspace.

This regulation is limited to an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

Environmental Review

The Department of the Army, Fort Benning, Georgia (GA) conducted an environmental assessment (EA) on a landfill exchange, and an environmental impact statement (EIS) on a land exchange with the City of Columbus, GA. The landfill exchange related to an area located north of Fort Benning and the land exchange related to an area south. The EA resulted in a Finding of No Significant Impact (FONSI) and the parties implemented the action in 1997. The EIS resulted in a Record of Decision (ROD) and the parties implemented the action in 2000. Both of these exchanges require minor modifications to Restricted Area 3002 (R-3002). The U.S. Army submitted the proposal for modification of R-3002, identified as the Land Exchange Airspace Redesignation.

In January 2004, the U.S. Army conducted a review of the EA/FONSI for the landfill and the EIS/ROD for the land exchange and determined that the contents remained substantially valid and do not warrant preparation of a new EA or EIS, nor a supplement or amendment to the FONSI or ROD. They conducted the review in accordance with the then current applicable U.S. Army directives and FAA Order 1050.1D, “Policies and Procedures for Considering Environmental Impacts.”

The FAA reviewed the proponent's environmental documentation and determined that there is no reasonable expectation for this airspace action to cause any potentially significant environmental impacts and that it will not trigger any extraordinary circumstances, which would warrant preparation of additional environmental documentation. The FAA, therefore, has determined that this action qualifies for categorical exclusion from further environmental analysis under the National Environmental Policy Act in accordance with FAA Order 1050.1E, “Environmental Impacts: Policies and Procedures,” paragraphs 303d, 307c, and 311c.

List of Subjects in 14 CFR Part 73

Airspace, Prohibited areas, Restricted areas.

Adoption of the Amendment

In consideration of the foregoing, the Federal Aviation Administration amends 14 CFR part 73, as follows:

PART 73—SPECIAL USE AIRSPACE

1. The authority citation for part 73 continues to read as follows:

Authority: 49 U.S.C. 106(g), 40103, 40113, 40120; E.O. 10854, 24 FR 9565, 3 CFR, 1959-1963 Comp., p. 389.

§ 73.30 [Amended]

2. Section 73.30 is amended as follows:

* * * * *

R-3002A Fort Benning, GA [Amended]

By removing the current Boundaries, Controlling agency, and Using agency and substituting the following:

Boundaries. Beginning at lat. 32°31′12″ N., long. 84°50′11″ W.; to lat. 32°19′03″ N., long. 84°41′42″ W.; thence along the Central of Georgia Railroad to lat. 32°19′09″ N., long. 84°42′27″ W.; to lat. 32°19′14″ N., long. 84°42′52″ W.; to lat. 32°19′23″ N., long. 84°43′18″ W.; to lat. 32°19′35″ N., long. 84°43′49″ W.; to lat. 32°19′43″ N., long. 84°44′29″ W.; to lat. 32°19′55″ N., long. 84°45′06″ W.; to lat. 32°20′13″ N., long. 84°45′54″ W.; to lat. 32°20′30″ N., long. 84°46′32″ W.; to lat. 32°20′53″ N., long. 84°46′55″ W.; to lat. 32°20′55″ N., long. 84°47′38″ W.; to lat. 32°15′25″ N., long. 84°47′32″ W.; to lat. 32°15′26″ N., long. 84°48′37″ W.; to lat. 32°15′17″ N., long. 84°48′37″ W.; thence along River Bend Road to lat. 32°15′17″ N., long. 84°48′48″ W.; to lat. 32°15′06″ N., long. 84°49′08″ W.; to lat. 32°14′48″ N., long. 84°49′26″ W.; to lat. 32°14′38″ N., long. 84°49′53″ W.; to lat. 32°14′32″ N., long. 84°50′15″ W.; to lat. 32°14′22″ N., long. 84°50′30″ W.; to lat. 32°14′12″ N., long. 84°50′36″ W.; to lat. 32°14′22″ N., long. 84°52′22″ W.; to lat. 32°15′07″ N., long. 84°52′21″ W.; to lat. 32°15′06″ N., long. 84°52′38″ W.; to lat, 32°15′33″ N., long. 84°52′37″ W.; to lat. 32°15′34″ N., long. 84°53′11″ W.; to lat. 32°20′15″ N., long. 84°58′36″ W.; thence along Dixie Rd./First Division Rd. to lat. 32°20′36″ N., long. 84°58′15″ W.; to lat. 32°20′53″ N., long. 84°57′55″ W.; to lat. 32°21′03″ N., long. 84°57′40″ W.; to lat. 32°21′11″ N., long. 84°57′24″ W.; to lat. 32°21′08″ N., long. 84°56′55″ W.; to lat. 32°21′13″ N., long. 84°56′04″ W.; to lat. 32°21′33″ N., long. 84°55′35″ W.; to lat. 32°21′50″ N., long. 84°55′16″ W.; to lat. 32°21′53″ N., long. 84°55′00″ W.; to lat. 32°22′06″ N., long. 84°54′41″ W.; to lat. 32°23′01″ N., long. 84°55′44″ W.; to lat. 32°24′48″ N., long. 84°52′52″ W.; to lat. 32°25′36″ N., long. 84°52′52″ W.; to lat. 32°25′44″ N., long. 84°53′30″ W.; to lat. 32°26′19″ N., long. 84°53′31″ W.; to lat. 32°26′20″ N., long. 84°53′54″ W.; to lat. 32°27′19″ N., long. 84°53′53″ W.; to lat. 32°27′17″ N., long. 84°52′10″ W.; to lat. 32°28′46″ N., long. 84°52′08″ W.; to lat. 32°28′44″ N., long. 84°50′47″ W.; to lat. 32°29′43″ N., long. 84°50′59″ W.; to lat. 32°30′35″ N., long. 84°50′50″ W.; to lat. 32°30′39″ N., long. 84°50′23″ W.; thence to the point of beginning.

Controlling agency. FAA, Atlanta TRACON.

Using agency. U.S. Army, Commanding General, Infantry Center and Fort Benning, GA.

R-3002B Fort Benning, GA [Amended]

By removing the current Boundaries, Controlling agency, and Using agency and substituting the following:

Boundaries. Beginning at lat. 32°31′12″ N., long. 84°50′11″ W.; to lat. 32°19′03″ N., long. 84°41′42″ W.; thence along the Central of Georgia Railroad to lat. 32°19′09″ N., long. 84°42′27″ W.; to lat. 32°19′14″ N., long. 84°42′52″ W.; to lat. 32°19′23″ N., long. 84°43′18″ W.; to lat. 32°19′35″ N., long. 84°43′49″ W.; to lat. 32°19′43″ N., long. 84°44′29″ W.; to lat. 32°19′55″ N., long. 84°45′06″ W.; to lat. 32°20′13″ N., long. 84°45′54″ W.; to lat. 32°20′30″ N., long. 84°46′32″ W.; to lat. 32°20′53″ N., long. 84°46′55″ W.; to lat. 32°20′55″ N., long. 84°47′38″ W.; to lat. 32°15′25″ N., long. 84°47′32″ W.; to lat. 32°15′26″ N., long. 84°48′37″ W.; to lat. 32°15′17″ N., long. 84°48′37″ W.; thence along River Bend Road to lat. 32°15′17″ N., long. 84°48′48″ W.; to lat. 32°15′06″ N., long. 84°49′08″ W.; to lat. 32°14′48″ N., long. 84°49′26″ W.; to lat. 32°14′38″ N., long. 84°49′53″ W.; to lat. 32°14′32″ N., long. 84°50′15″ W.; to lat. 32°14′22″ N., long. 84°50′30″ W.; to lat. 32°14′12″ N., long. 84°50′36″ W.; to lat. 32°14′22″ N., long. 84°52′22″ W.; to lat. 32°15′07″ N., long. 84°52′21″ W.; to lat. 32°15′06″ N., long. 84°52′38″ W.; to lat, 32°15′33″ N., long. 84°52′37″ W.; to lat. 32°15′34″ N., long. 84°53′11″ W.; to lat. 32°20′15″ N., long. 84°58′36″ W.; thence along Dixie Rd/First Division Rd to lat. 32°20′36″ N., long. 84°58′15″ W.; to lat. 32°20′53″ N., long. 84°57′55″ W.; to lat. 32°21′03″ N., long. 84°57′40″ W.; to lat. 32°21′11″ N., long. 84°57′24″ W.; to lat. 32°21′08″ N., long. 84°56′55″ W.; to lat. 32°21′13″ N., long. 84°56′04″ W.; to lat. 32°21′33″ N., long. 84°55′35″ W.; to lat. 32°21′50″ N., long. 84°55′16″ W.; to lat. 32°21′53″ N., long. 84°55′00″ W.; to lat. 32°22′06″ N., long. 84°54′41″ W.; to lat. 32°23′01″ N., long. 84°55′44″ W.; to lat. 32°24′48″ N., long. 84°52′52″ W.; to lat. 32°25′36″ N., long. 84°52′52″ W.; to lat. 32°25′44″ N., long. 84°53′30″ W.; to lat. 32°26′19″ N., long. 84°53′31″ W.; to lat. 32°26′20″ N., long. 84°53′54″ W.; to lat. 32°27′19″ N., long. 84°53′53″ W.; to lat. 32°27′17″ N., long. 84°52′10″ W.; to lat. 32°28′46″ N., long. 84°52′08″ W.; to lat. 32°28′44″ N., long. 84°50′47″ W.; to lat. 32°29′43″ N., long. 84°50′59″ W.; to lat. 32°30′35″ N., long. 84°50′50″ W.; to lat. 32°30′39″ N., long. 84°50′23″ W.; thence to the point of beginning.

Controlling agency. FAA, Atlanta TRACON.

Using agency. U.S. Army, Commanding General, Infantry Center and Fort Benning, GA.

R-3002C Fort Benning, GA [Amended]

By removing the current Boundaries, Controlling agency, and Using agency and substituting the following:

Boundaries. Beginning at lat. 32°31′12″ N., long. 84°50′11″ W.; to lat. 32°19′03″ N., long. 84°41′42″ W.; thence along the Central of Georgia Railroad to lat. 32°19′09″ N., long. 84°42′27″ W.; to lat. 32°19′14″ N., long. 84°42′52″ W.; to lat. 32°19′23″ N., long. 84°43′18″ W.; to lat. 32°19′35″ N., long. 84°43′49″ W.; to lat. 32°19′43″ N., long. 84°44′29″ W.; to lat. 32°19′55″ N., long. 84°45′06″ W.; to lat. 32°20′13″ N., long. 84°45′54″ W.; to lat. 32°20′30″ N., long. 84°46′32″ W.; to lat. 32°20′53″ N., long. 84°46′55″ W.; to lat. 32°20′55″ N., long. 84°47′38″ W.; to lat. 32°15′25″ N., long. 84°47′32″ W.; to lat. 32°15′26″ N., long. 84°48′37″ W.; to lat. 32°15′17″ N., long. 84°48′37″ W.; thence along River Bend Road to lat. 32°15′17″ N., long. 84°48′48″ W.; to lat. 32°15′06″ N., long. 84°49′08″ W.; to lat. 32°14′48″ N., long. 84°49′26″ W.; to lat. 32°14′38″ N., long. 84°49′53″ W.; to lat. 32°14′32″ N., long. 84°50′15″ W.; to lat. 32°14′22″ N., long. 84°50′30″ W.; to lat. 32°14′12″ N., long. 84°50′36″ W.; to lat. 32°14′22″ N., long. 84°52′22″ W.; to lat. 32°15′07″ N., long. 84°52′21″ W.; to lat. 32°15′06″ N., long. 84°52′38″ W.; to lat, 32°15′33″ N., long. 84°52′37″ W.; to lat. 32°15′34″ N., long. 84°53′11″ W.; to lat. 32°20′15″ N., long. 84°58′36″ W.; thence along Dixie Rd/First Division Rd to lat. 32°20′36″ N., long. 84°58′15″ W.; to lat. 32°20′53″ N., long. 84°57′55″ W.; to lat. 32°21′03″ N., long. 84°57′40″ W.; to lat. 32°21′11″ N., long. 84°57′24″ W.; to lat. 32°21′08″ N., long. 84°56′55″ W.; to lat. 32°21′13″ N., long. 84°56′04″ W.; to lat. 32°21′33″ N., long. 84°55′35″ W.; to lat. 32°21′50″ N., long. 84°55′16″ W.; to lat. 32°21′53″ N., long. 84°55′00″ W.; to lat. 32°22′06″ N., long. 84°54′41″ W.; to lat. 32°23′01″ N., long. 84°55′44″ W.; to lat. 32°24′48″ N., long. 84°52′52″ W.; to lat. 32°25′36″ N., long. 84°52′52″ W.; to lat. 32°25′44″ N., long. 84°53′30″ W.; to lat. 32°26′19″ N., long. 84°53′31″ W.; to lat. 32°26′20″ N., long. 84°53′54″ W.; to lat. 32°27′19″ N., long. 84°53′53″ W.; to lat. 32°27′17″ N., long. 84°52′10″ W.; to lat. 32°28′46″ N., long. 84°52′08″ W.; to lat. 32°28′44″ N., long. 84°50′47″ W.; to lat. 32°29′43″ N., long. 84°50′59″ W.; to lat. 32°30′35″ N., long. 84°50′50″ W.; to lat. 32°30′39″ N., long. 84°50′23″ W.; thence to the point of beginning.

Controlling agency. FAA, Atlanta TRACON.

Using agency. U.S. Army, Commanding General, Infantry Center and Fort Benning, GA.

R-3002D Fort Benning, GA [Amended]

By removing the current Boundaries, Controlling agency, and Using agency and substituting the following:

Boundaries. Beginning at lat. 32°31′12″ N., long. 84°50′11″ W.; to lat. 32°31′52″ N., long. 84°50′25″ W.; to lat. 32°33′05″ N., long. 84°45′27″ W.; thence along the Central of Georgia Railroad to lat. 32°32′52″ N., long. 84°45′00″ W.; to lat. 32°32′43″ N., long. 84°44′08″ W.; to lat. 32°32′34″ N., long. 84°43′40″ W.; to lat. 32°32′22″ N., long. 84°43′13″ W.; to lat. 32°32′18″ N., long. 84°42′53″ W.; to lat. 32°32′08″ N., long. 84°42′38″ W.; to lat. 32°32′05″ N., long. 84°42′26″ W.; to lat. 32°32′11″ N., long. 84°42′12″ W.; to lat. 32°32′13″ N., long. 84°41′54″ W.; to lat. 32°32′10″ N., long. 84°41′38″ W.; to lat. 32°32′06″ N., long. 84°41′25″ W.; to lat. 32°32′08″ N., long. 84°41′17″ W.; to lat. 32°32′15″ N., long. 84°41′01″ W.; to lat. 32°32′20″ N., long. 84°40′56″ W.; to lat. 32°32′07″ N., long. 84°40′44″ W.; to lat. 32°31′06″ N., long. 84°41′43″ W.; to lat. 32°31′04″ N., long. 84°40′54″ W.; to lat. 32°32′04″ N., long. 84°38′16″ W.; to lat. 32°29′16″ N., long. 84°38′17″ W.; to lat. 32°29′10″ N., long. 84°39′25″ W.; to lat. 32°18′35″ N., long. 84°39′30″ W.; to lat. 32°18′23″ N., long. 84°41′09″ W.; to lat. 32°19′03″ N., long. 84°41′42″ W.; thence to the point of beginning.

Controlling agency. FAA, Atlanta TRACON.

Using agency. U.S. Army, Commanding General, Infantry Center and Fort Benning, GA.

R-3002E Fort Benning, GA [Amended]

By removing the current Boundaries, Controlling agency, and Using agency and substituting the following:

Boundaries. Beginning at lat. 32°31′12″ N., long. 84°50′11″ W.; to lat. 32°31′52″ N., long. 84°50′25″ W.; to lat. 32°33′05″ N., long. 84°45′27″ W.; thence along the Central of Georgia Railroad to lat. 32°32′52″ N., long. 84°45′00″ W.; to lat. 32°32′43″ N., long. 84°44′08″ W.; to lat. 32°32′34″ N., long. 84°43′40″ W.; to lat. 32°32′22″ N., long. 84°43′13″ W.; to lat. 32°32′18″ N., long. 84°42′53″ W.; to lat. 32°32′08″ N., long. 84°42′38″ W.; to lat. 32°32′05″ N., long. 84°42′26″ W.; to lat. 32°32′11″ N., long. 84°42′12″ W.; to lat. 32°32′13″ N., long. 84°41′54″ W.; to lat. 32°32′10″ N., long. 84°41′38″ W.; to lat. 32°32′06″ N., long. 84°41′25″ W.; to lat. 32°32′08″ N., long. 84°41′17″ W.; to lat. 32°32′15″ N., long. 84°41′01″ W.; to lat. 32°32′20″ N., long. 84°40′56″ W.; to lat. 32°32′07″ N., long. 84°40′44″ W.; to lat. 32°31′06″ N., long. 84°41′43″ W.; to lat. 32°31′04″ N., long. 84°40′54″ W.; to lat. 32°32′04″ N., long. 84°38′16″ W.; to lat. 32°29′16″ N., long. 84°38′17″ W.; to lat. 32°29′10″ N., long. 84°39′25″ W.; to lat. 32°18′35″ N., long. 84°39′30″ W.; to lat. 32°18′23″ N., long. 84°41′09″ W.; to lat. 32°19′03″ N., long. 84°41′42″ W.; thence to the point of beginning.

Controlling agency. FAA, Atlanta TRACON.

Using agency. U.S. Army, Commanding General, Infantry Center and Fort Benning, GA.

R-3002F Fort Benning, GA [Amended]

By removing the current Boundaries, Controlling agency, and Using agency and substituting the following:

Boundaries. Beginning at lat. 32°27′17″ N., long. 84°52′10″ W.; to lat. 32°28′46″ N., long. 84°52′08″ W.; to lat. 32°28′44″ N., long. 84°50′47″ W.; to lat. 32°29′43″ N., long. 84°50′59″ W.; to lat. 32°30′35″ N., long. 84°50′50″ W.; to lat. 32°30′39″ N., long. 84°50′23″ W.; to lat. 32°31′12″ N., long. 84°50′11″ W.; to lat. 32°31′52″ N., long. 84°50′25″ W.; to lat. 32°33′05″ N., long. 84°45′27″ W; thence along the Central of Georgia Railroad to lat. 32°32′52″ N., long. 84°45′00″ W.; to lat. 32°32′43″ N., long. 84°44′08″ W.; to lat. 32°32′34″ N., long. 84°43′40″ W.; to lat. 32°32′22″ N., long. 84°43′13″ W.; to lat. 32°32′18″ N., long. 84°42′53″ W.; to lat. 32°32′08″ N., long. 84°42′38″ W.; to lat. 32°32′05″ N., long. 84°42′26″ W.; to lat. 32°32′11″ N., long. 84°42′12″ W.; to lat. 32°32′13″ N., long. 84°41′54″ W.; to lat. 32°32′10″ N., long. 84°41′38″ W.; to lat. 32°32′06″ N., long. 84°41′25″ W.; to lat. 32°32′08″ N., long. 84°41′17″ W.; to lat. 32°32′15″ N., long. 84°41′01″ W.; to lat. 32°32′20″ N., long. 84°40′56″ W.; to lat. 32°32′07″ N., long. 84°40′44″ W.; to lat. 32°31′06″ N., long. 84°41′43″ W.; to lat. 32°31′04″ N., long. 84°40′54″ W.; to lat. 32°32′04″ N., long. 84°38′16″ W.; to lat. 32°29′16″ N., long. 84°38′17″ W.; to lat. 32°29′10″ N., long. 84°39′25″ W.; to lat. 32°18′35″ N., long. 84°39′30″ W.; to lat. 32°18′23″ N., long. 84°41′09″ W.; to lat. 32°19′03″ N., long. 84°41′42″ W.; thence along the Central of Georgia Railroad to lat. 32°19′09″ N., long. 84°42′27″ W.; to lat. 32°19′14″ N., long. 84°42′52″ W.; to lat. 32°19′23″ N., long. 84°43′18″ W.; to lat. 32°19′35″ N., long. 84°43′49″ W.; to lat. 32°19′43″ N., long. 84°44′29″ W.; to lat. 32°19′55″ N., long. 84°45′06″ W.; to lat. 32°20′13″ N., long. 84°45′54″ W.; to lat. 32°20′30″ N., long. 84°46′32″ W.; to lat. 32°20′53″ N., long. 84°46′55″ W.; to lat. 32°20′55″ N., long. 84°47′38″ W.; thence to the point of beginning.

Controlling agency. FAA, Atlanta TRACON.

Using agency. U.S. Army, Commanding General, Infantry Center and Fort Benning, GA.

R-3002G Fort Benning, GA [New]

Boundaries. Beginning at lat. 32°20′15″ N., long. 84°58′36″ W.; to lat. 32°15′34″ N., long. 84°53′11″ W.; to lat. 32°15′32″ N., long. 84°54′02″ W.; to lat. 32°15″04′ N., long. 84°55′24″ W.; to lat. 32°14′27″ N., long. 84°54′50″ W.; to lat. 32°14′25″ N., long. 84°56′53″ W.; to lat. 32°14′36″ N., long. 84°56′53″ W.; to lat. 32°14′38″ N., long. 84°57′56″ W.; to lat. 32°16′36″ N., long. 84°57′58″ W.; to lat. 32°16′36″ N., long. 84°58′35″ W.; to lat. 32°17′39″ N., long. 84°58′35″ W.; to lat. 32°17′40″ N., long. 84°58′54″ W.; thence to the point of beginning.

Designated altitudes. Surface to 14,000 feet MSL.

Time of designation. Intermittent, 0600-0200 local time daily; other times by NOTAM 6 hours in advance.

Controlling agency. FAA, Atlanta TRACON.

Using agency. U.S. Army, Commanding General, Infantry Center and Fort Benning, GA.

* * * * *

Issued in Washington, DC, on April 25, 2006.
Edith V. Parish,
Manager, Airspace and Rules.

[FR Doc. 06-4186 Filed 5-3-06; 8:45 am]

BILLING CODE 4910-13-P